DEPARTMENT OF ENERGY

Federal Energy Regulatory Commission

[Docket No. ER01-129-001]

Consolidated Edison Company of New York, Inc.; Notice of Filing

January 5, 2001.

Take notice that on December 29, 2000, Consolidated Edison Company of New York, Inc. (Con Edison), tendered for filing a revised rate schedule in the above-listed docket.

Con Edison states that a copy of this filing has been served by mail upon NYPA.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before January 19, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-1043 Filed 1-11-01; 8:45 am]

BILLING CODE 6717-01-M